SECURITIES AND EXCHANGE COMMISSION

[File No. 500-1]

In the Matter of Certain Companies Quoted on the Pink Sheets: Asia Pacific Energy Inc.; Bolivar Mining Corp; Order of Suspension of Trading

January 24, 2008.

It appears to the Securities and Exchange Commission that there is a lack of current and accurate information concerning the securities of the issuers listed below. As set forth below for each issuer, questions have arisen regarding the adequacy and accuracy of publicly disseminated information concerning, among other things: (1) The companies' current financial condition, (2) the companies' management, (3) the companies' business operations, and/or (4) stock promoting activity.

1. Asia Pacific Energy Inc. is a Nevada company with offices in Richmond Hill, Ontario, Canada. Questions have arisen regarding the adequacy and accuracy of statements on the company's Web site concerning the company's management, operations, current financial condition, transactions involving the issuance of the company's shares, and concerning stock promoting activity.

2. Bolivar Mining Corp. is a Nevada company with offices in Vancouver, British Columbia, Canada. Questions have arisen regarding the adequacy and accuracy of press releases concerning the company's current financial condition, operations, management, and concerning stock promoting activity.

The Commission is of the opinion that the public interest and the protection of investors require a suspension of trading in the securities of the companies listed above.

Therefore, it is ordered, pursuant to section 12(k) of the Securities Exchange Act of 1934, that trading in the securities of the companies listed above is suspended for the period from 9:30 a.m. EST on January 24, 2008, through 11:59 p.m. EST, on February 6, 2008.

By the Commission.
Nancy M. Morris,
Secretary.

[FR Doc. 08-359 Filed 1-24-08; 10:26 am]

BILLING CODE 8011-01-P